DEPARTMENT OF DEFENSE

Office of the Secretary

[Docket ID: DoD-2025-HA-0216]

Submission for OMB Review; Comment Request

AGENCY: The Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Applicant for TRICARE-Provider Status: Corporation Services Provider; DD 3030; OMB Control Number 0720-0020.

Type of Request: Extension.

Number of Respondents: 6,000.

Responses per Respondent: 1.

Annual Responses: 6,000.

Average Burden per Response: 20 minutes.

Annual Burden Hours: 2,000.

Needs and Uses: This information collection requirement is necessary to ensure that the conditions are met for authorization as a TRICARE/CHAMPUS Corporate Service Provider. Respondents are freestanding corporations and foundations seeking authorization under the TRICARE/CHAMPUS program to provide otherwise covered professional services to eligible TRICARE/CHAMPUS beneficiaries.

Affected Public: Business or other for-profit.

Frequency: On occasion.

Respondent's Obligation: Voluntary.

DOD Clearance Officer: Mr. Reginald Lucas.

Dated: November 21, 2025.
Stephanie J. Bost,
Alternate OSD Federal Register Liaison Officer, Department of Defense.

[FR Doc. 2025-21163 Filed 11-25-25; 8:45 am]

BILLING CODE 6001-FR-P